ENVIRONMENTAL PROTECTION AGENCY

[OW-2004-0009; FRL-7851-4]

Agency Information Collection Activities; Submission to OMB for Review and Approval; Comment Request; Disinfectants/Disinfection Byproducts, Chemical and Radionuclides Rules (Renewal), EPA ICR Number 1896.05, OMB Control Number 2040-0204

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on December 31, 2004. Under OMB regulations, the Agency may continue to conduct or sponsor the collection of information while this submission is pending at OMB. This ICR describes the nature of the information collection and its estimated burden and cost.

DATES: Additional comments may be submitted on or before January 20, 2005.

ADDRESSES: Submit your comments, referencing docket ID number OW-2004-0009, to (1) EPA online using EDOCKET (our preferred method), by e-mail to OW-Docket@epa.gov, or by mail to: EPA Docket Center, Environmental Protection Agency, Water Docket, Mail Code 4101T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Richard P. Naylor, Office of Ground Water and Drinking Water, (4606M), Environmental Protection Agency, 1200 Pennsylvania Ave., NW., Washington, DC 20460; telephone number: 202.564.3847; fax number: 202.564.3755; e-mail address: naylor.richard@epa.gov.

SUPPLEMENTARY INFORMATION: EPA has submitted the following ICR to OMB for review and approval according to the procedures prescribed in 5 CFR 1320.12. On April 30, 2004 (69 FR 23740), EPA sought comments on this ICR pursuant to 5 CFR 1320.8(d). EPA has addressed the comment received.

EPA has established a public docket for this ICR under Docket ID No. OW-2004-0009, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Disinfectants/Disinfection Byproducts, Chemical and Radionuclides Rules (Renewal).

Abstract: This ICR examines public water system (PWS), primacy agency, and EPA burden and costs for recordkeeping and reporting required in support of the chemical regulations. These rules, which have recordkeeping and reporting requirements that are mandatory for compliance with 40 CFR Parts 141 and 142, include the following: the Stage 1 Disinfectants and Disinfection Byproducts Rule (Stage 1 DBPR); the Chemical Phase Rules (Phases II/IIB/V); the Unregulated Contaminant Monitoring Rule (UCMR), Lists 1 and 2; the 1976 Radionuclides Rule and 2000 Radionuclides Rule; the Total Trihalomethanes (TTHM) Rule; the Disinfectant Residual Monitoring and Associated Activities under the Surface Water Treatment Rule (SWTR); Arsenic Rule; and the Lead and Copper Rule (LCR). Future chemical-related rulemakings, such as Radon and the Stage 2 DBPR, will be added to this ICR after the regulations are finalized and the initial, rule-specific, ICRs have expired.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 0.37 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: (1) Owners/operators of PWSs who must report to the primacy agency; (2) Primacy agencies that must report to EPA; and (3) Regional EPA administrators, who must send reports and notices to PWS owners and states.

Estimated Number of Respondents: 161,274.

Frequency of Response: as necessary, monthly, quarterly, annually, semiannually, biennially, triennially, six years, nine years.

Estimated Total Annual Hour Burden: 6,427,048.

Estimated Total Annual Cost: $379,817,000, includes $194,768,000 annualized capital or O&M costs and $185,049,000 annual labor costs.

Changes in the Estimates: There is an increase of 309,113 hours in the total estimated burden currently identified in the OMB Inventory of Approved ICR Burdens. This increase is primarily due to the restructuring adjustment for the previously approved stand-alone Arsenic ICR and is offset by reductions to individual rule burdens (e.g., updated system inventories and different monitoring requirements during the ICR period).

Dated: December 14, 2004.
Oscar Morales,
Director, Collection Strategies Division.

[FR Doc. 04-27887 Filed 12-20-04; 8:45 am]

BILLING CODE 6560-50-P